DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the removal of persons currently on OFAC's SDN List based on OFAC's determination that one or more applicable legal criteria were satisfied. All property and interests in property subject to U.S. jurisdiction of such persons are unblocked, and U.S. persons are permitted to engage in lawful transactions with them. Finally, OFAC is publishing updates to the identifying information of two persons currently included on the SDN List.

DATES: These actions were issued on July 24, 2025. See Supplementary Information for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

A. On July 24, 2025, OFAC determined that the property and interests in property subject to U.S. jurisdiction of the following persons are blocked under the relevant sanctions authorities listed below.

BILLING CODE 4810-AL-P

BILLING CODE 4810-AL-C

Entity

1. KOREA SOBAEKSU TRADING CORPORATION (a.k.a. KOREA SOBAEKSU UNITED CO.; a.k.a. KOREA SOBAEKSU UNITED CORPORATION; a.k.a. SOBAEKSU UNITED CORP.; a.k.a. SOBAEKU UNITED CORP), Huale St. Aojing Park Building 23, Unit 2 12-01, Zhongshan District, Dalian, Liaoning, China; 5 Center St., Xinxing District, Donggang City, Dandong, Liaoning, China; Secondary sanctions risk: North Korea Sanctions Regulations, sections 510.201 and 510.210; Transactions Prohibited For Persons Owned or Controlled By U.S. Financial Institutions: North Korea Sanctions Regulations section 510.214; Organization Type: Other information technology and computer service activities [NPWMD] (Linked To: MUNITIONS INDUSTRY DEPARTMENT).

Designated pursuant to section 1(a)(iv) of E.O. 13382 for being owned or controlled by, or acting or purporting to act for or on behalf of, directly or indirectly, MUNITIONS INDUSTRY DEPARTMENT, a person whose property and interests in property are blocked pursuant to E.O. 13382.

B. On July 24, 2025, OFAC has determined that circumstances no longer warrant the inclusion of the following persons on the SDN List, and that their property and interests in property are no longer blocked pursuant to Executive Order 14014 of February 10, 2021, “Blocking Property With Respect to the Situation in Burma”, 86 FR 9429 (February 12, 2021).

Individuals

1. OO, Aung Hlaing, Burma; DOB 11 Jun 1977; nationality Burma; Gender Male (individual) [BURMA-EO14014].

2. AUNG, Sit Taing (a.k.a. ASUNG, Sit Thaing; a.k.a. AUNG, Sitt Thaing), Burma; DOB 13 Nov 1971; nationality Burma; citizen Burma; Gender Male (individual) [BURMA-EO14014].

3. MIN, Tin Latt, Burma; DOB 15 Jun 1968; nationality Burma; Gender Female; National ID No. 5/MAYANAN012759 (Burma) (individual) [BURMA-EO14014] (Linked To: ZAW, Thein Win).

4. THAUNG, Jonathan Myo Kyaw (a.k.a. TAUNG, Jonathan Kwang; a.k.a. THAUNG, Jonathan Kwang; a.k.a. THAUNG, Jonathan Kyaw; a.k.a. “MYO, Jonathan”), Burma; DOB 29 Dec 1981; nationality Burma; Gender Male (individual) [BURMA-EO14014] (Linked To: MYANMA ECONOMIC HOLDINGS PUBLIC COMPANY LIMITED).

Entities

1. MYANMAR CHEMICAL AND MACHINERY COMPANY LIMITED (a.k.a. MCM GROUP), No. 566/KA, Yazahtarni Road, Paung Laung 2 Quarter, Pyinmana Township, Naypyitaw, Burma; NO.2, 7 Mile Hill, MG Weik Housing, Mayangone Township, Yangon Region, Burma; Organization Type: Wholesale of other machinery and equipment; Target Type Private Company; Registration Number 100220040 (Burma) issued 10 Feb 2001 [BURMA-EO14014] (Linked To: OO, Aung Hlaing).

2. SUNTAC TECHNOLOGIES COMPANY LIMITED (a.k.a. SUNTAC GROUP; a.k.a. SUNTAC TECHNOLOGIES; a.k.a. SUNTAC TECHNOLOGIES CO., LTD.), Room 5, 7, 8, Building 5, Building 8, MICT Park, Hlaing Township, Yangon Region, Burma; Bldg 5, Room 5/7/8/12 Myanmar ICP Park, Hlaing Po 1052 Township, Yangon, Burma; Organization Established Date 28 Dec 2000; Organization Type: Mining of hard coal; alt. Organization Type: Mining of lignite; Business Registration Number 181472561 (Burma) [BURMA-EO14014] (Linked To: AUNG, Sit Taing).

3. SUNTAC INTERNATIONAL TRADING COMPANY LIMITED (a.k.a. SUN TAC INTERNATIONAL TRADING CO., LIMITED; a.k.a. SUN TEC INTERNATIONAL TRADING CO., LIMITED; a.k.a. SUNTAC GROUP; a.k.a. SUNTAC GROUP OF COMPANIES; a.k.a. SUNTAC INTERNATIONAL TRADING CO., LIMITED; a.k.a. SUNTEC INTERNATIONAL TRADING CO., LIMITED; a.k.a. “SUN TEC”; a.k.a. “SUNTAC”), Thiriyadanar Shopping Complex, No. 177, Zabu Thiri Township, Nay Pyi Taw, Burma; 151 B Thiri Mingalar Lane, Mayangon Township, Yangon, Burma; Organization Established Date 03 Jul 1996; Organization Type: Management consultancy activities [BURMA-EO14014] (Linked To: AUNG, Sit Taing).

4. KT SERVICES & LOGISTICS KTSL COMPANY LIMITED (a.k.a. KT SERVICES & LOGISTICS CO., LTD; a.k.a. KT SERVICES AND LOGISTICS CO., LTD; a.k.a. KT SERVICES AND LOGISTICS COMPANY LIMITED; a.k.a. KT SERVICES AND LOGISTICS KTSL COMPANY LIMITED), Pyay Road, A4/A5 Kamayut Township, Rangoon 11201, Burma; Registration Country Burma; Organization Established Date 18 Feb 2014; Registration Number 108301848 (Burma) [BURMA-EO14014] (Linked To: MYANMA ECONOMIC HOLDINGS PUBLIC COMPANY LIMITED).

C. On July 24, 2025, OFAC has determined that circumstances no longer warrant the inclusion of the following persons on the SDN List and their property and interests in property are no longer blocked pursuant to Executive Order 13722 of March 15, 2016, “Blocking Property of the Government of North Korea and the Workers' Party of Korea, and Prohibiting Certain Transactions with Respect to North Korea,” 81 FR 14943, 3 CFR, 2016 Comp., p. 446 (March 18, 2016).

Individual

1. JADHAV, Deepak (a.k.a. JADHAV, Deepak Subhash), 203 Topaz Sai Ram Manor, Apartment Yosufguda, Hyderabad 500045, India; DOB 11 Dec 1976; POB Dombivli Maharashtra, India; nationality India; Gender Male; Secondary sanctions risk: North Korea Sanctions Regulations, sections 510.201 and 510.210; Transactions Prohibited For Persons Owned or Controlled By U.S. Financial Institutions: North Korea Sanctions Regulations section 510.214; Passport U8554908 (India) expires 12 Jan 2031 (individual) [DPRK3] (Linked To: SEK STUDIO).

Entity

1. FUNSAGA PTE LTD., 111 North Bridge Road, #08-18, Peninsula Plaza, 179098, Singapore; Peninsular Plaza, 111 North Bridge Road, #08-11, 179098, Singapore; Secondary sanctions risk: North Korea Sanctions Regulations, sections 510.201 and 510.210; Transactions Prohibited For Persons Owned or Controlled By U.S. Financial Institutions: North Korea Sanctions Regulations section 510.214; Organization Established Date 30 Oct 2018; Identification Number 201836948N (Singapore) [DPRK3] (Linked To: SEK STUDIO).

D. On July 24, 2025, OFAC updated the SDN List entry for the following person, whose property and interests in property subject to U.S. jurisdiction continue to be blocked. The listing below reflects the amended entry on the SDN List.

Lawrence M. Scheinert,
Acting Deputy Director, Office of Foreign Assets Control.

[FR Doc. 2025-15694 Filed 8-15-25; 8:45 am]

BILLING CODE 4810-AL-P